COMMITTEE FOR THE IMPLEMENTATION OF TEXTILE AGREEMENTS

Amendment of Export Visa and Certification Requirements for Certain Cotton, Wool and Man-Made Fiber Textile Products Produced or Manufactured in Mexico

September 25, 2000.

AGENCY: Committee for the Implementation of Textile Agreements (CITA).

ACTION: Issuing a directive to the Commissioner of Customs amending visa and certification requirements.

EFFECTIVE DATE: January 1, 2001.

FOR FURTHER INFORMATION CONTACT: Naomi Freeman, International Trade Specialist, Office of Textiles and Apparel, U.S. Department of Commerce, (202) 482-4212.

SUPPLEMENTARY INFORMATION:

Authority: Section 204 of the Agricultural Act of 1956, as amended (7 U.S.C. 1854); Executive Order 11651 of March 3, 1972, as amended.

Pursuant to the North America Free Trade Agreement, the existing export visa and certification requirements are being canceled for textile and apparel products no longer subject to restrictions or consultation levels which are exported from Mexico on and after January 1, 2001.

A description of the textile and apparel categories in terms of HTS numbers is available in the CORRELATION: Textile and Apparel Categories with the Harmonized Tariff Schedule of the United States (see Federal Register notice 64 FR 71982, published on December 22, 1999). Also see 58 FR 69350, published on December 30, 1993.

D. Michael Hutchinson,
Acting Chairman, Committee for the Implementation of Textile Agreements.

Committee for the Implementation of Textile Agreements

September 25, 2000.

Commissioner of Customs,

Department of the Treasury, Washington, DC 20229.

Dear Commissioner: This amends, but does not cancel, the directive issued to you on December 27, 1993, as amended, by the Chairman, Committee for the Implementation of Textile Agreements. That directive directed you to prohibit entry of certain cotton, wool and man-made fiber textile products, produced or manufactured in Mexico for which the government of the United Mexican States has not issued an appropriate visa.

Pursuant to section 204 of the Agricultural Act of 1956, as amended (7 U.S.C. 1854) and Executive Order 11651 of March 3, 1972, as amended; and pursuant to the North America Free Trade Agreement (NAFTA) between the Governments of the United States, the United Mexican States and Canada, effective on January 1, 2001, the visa and certification requirements in the above referenced directive will not apply to Categories 219, 313, 314, 315, 317, 338/339/638/639, 340/640, 347/348/647/648, 633 and 643, as they are no longer subject to restrictions or consultation levels. Therefore, effective on and after January 1, 2001, you are directed to cancel the visa and certification requirements for goods in these categories exported on and after January 1, 2001.

The Committee for the Implementation of Textile Agreements has determined that these actions fall within the foreign affairs exception to the rulemaking provisions of 5 U.S.C. 553(a)(1). This letter will be published in the Federal Register.

Sincerely,

D. Michael Hutchinson,

Acting Chairman, Committee for the Implementation of Textile Agreements.

[FR Doc. 00-25008 Filed 9-28-00; 8:45 am]

BILLING CODE 3510-DR-F